DEPARTMENT OF JUSTICE

Antitrust Division

Notice Pursuant to the National Cooperative Research and Production Act of 1993—Enterprise Grid Alliance

Notice is hereby given that, on October 13, 2004, pursuant to Section 6(a) of the National Cooperative Research and Production Act of 1993, 15 U.S.C. § 4301 et seq. (“the Act”), Enterprise Grid Alliance (“EGA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Enterprise Grid Alliance, San Ramon, CA. The nature and scope of EGA's standards development activities are: To provide, plan, develop and coordinate voluntary standards and solutions allowing enterprise users to embrace and realize the benefits of grid technologies in the near term.

Dorothy B. Fountain,
Deputy Director of Operations, Antitrust Division.

[FR Doc. 04-26215 Filed 11-26-04; 8:45 am]

BILLING CODE 4410-11-M